DEPARTMENT OF HOUSING AND URBAN DEVELOPMENT

[Docket Number FR-5062-N-01]

Operating Fund Program; Transition Funding and Guidance on Demonstration of Successful Conversion to Asset Management to Discontinue the Reduction of Operating Subsidy

AGENCY: Office of the Assistant Secretary for Public and Indian Housing; HUD.

ACTION: Notice.

SUMMARY: On September 19, 2005, HUD published a final rule amending the regulations of The Public Housing Operating Funding Program to adopt a new formula for determining the payment of operating subsidy to Public Housing Agencies (PHAs). The September 19, 2005, final rule contained different transition provisions to determine whether a PHA will have a reduction or an increase in operating subsidy. The Operating Fund Program final rule also provides that PHAs may submit documentation of successful conversion to asset management in order to discontinue their reduction in operating subsidy under the new formula, commonly referred to as the “stop-loss” provision. This notice advises the public that HUD has posted a notice on its Web site (www.hud.gov) providing additional guidance on the calculation of transition funding and how PHAs may qualify for the “stop loss” provision.

FOR FURTHER INFORMATION CONTACT: Elizabeth Hanson, Deputy Assistant Secretary, Departmental Real Estate Assessment Center, Office of Public and Indian Housing, Department of Housing and Urban Development, 451 Seventh Street, SW., Room 2000; Washington, DC 20410-0500; telephone 202-475-7949 (this is not a toll-free number). Individuals with speech or hearing impairments may access this number through TTY by calling the toll-free Federal Information Relay Service at 800-877-8339.

SUPPLEMENTARY INFORMATION: Interested parties should consult notice posted on the HUD Web site, www.hud.gov, for guidance regarding how transition funding will be calculated, the criteria for successful conversion to asset management, and the procedure for submitting documentation of successful conversion to asset management in order to discontinue a reduction in operating subsidy. The portions of the notice pertaining to “stop-loss” apply only to PHAs that: (1) Lose funding under the new formula; and (2) wish to submit documentation in accordance with the requirements for the first stop-loss deadline of October 1, 2006, so they may limit their losses to 5 percent. In order to provide PHAs with sufficient time to prepare for this first stop-loss deadline, HUD has developed the abbreviated requirements set forth in the notice that can be accessed from the HUD Web site. HUD will issue expanded requirements for the subsequent deadline dates to qualify for stop-loss.

Dated: March 29, 2006.
Orlando J. Cabrera,
Assistant Secretary for Public and Indian Housing.

[FR Doc. E6-4892 Filed 4-4-06; 8:45 am]

BILLING CODE 4210-67-P